FEDERAL MARITITME COMMISSION

Sunshine Act Meetings; Correction

AGENCY: Federal Maritime Commission.

ACTION: Notice; correction.

SUMMARY: The Federal Maritime Commission published a document in the Federal Register of July 18, 2022, concerning the Sunshine Act Meetings for our July 27, 2022, Commission Meeting. The document contained incorrect agenda item #3.

FOR FURTHER INFORMATION CONTACT: William Cody, 202-523-5725.

SUPPLEMENTARY INFORMATION:

Correction

In the Federal Register of July 18, 2022, in FR Doc. 2022-15400, on page 42725, item #3 titled “3. Staff Update on Ocean Carrier Practices with Respect to Congestion or Related Surcharges” should be removed, and item #4 titled “4. Staff Briefing on Enforcement Process and Pending Matters” should be renumbered as item #3.

Dated: July 25, 2022.
William Cody,
Secretary.

[FR Doc. 2022-16188 Filed 7-25-22; 4:15 pm]

BILLING CODE 6730-02-P